DEPARTMENT OF ENERGY

Federal Energy Regulatory Commission

[Docket No. ER02-10-003, et al.]

Duke Energy Oakland, LLC, et al.; Electric Rate and Corporate Filings

October 25, 2002.

The following filings have been made with the Commission. The filings are listed in ascending order within each docket classification.

1. Duke Energy Oakland, LLC

[Docket Nos. ER02-10-003, ER02-240-003, and ER02-1478-002]

Take notice that on October 22, 2002, Duke Energy Oakland, LLC (DEO) tendered for filing certain revisions to Schedules A and B of its RMR Agreement (RMR Agreement) with the California Independent System Operator (CAISO). The revisions are proposed in light of an Offer of Settlement submitted in the above-referenced dockets. DEO states that the revised tariff sheets resolve all outstanding issues related to DEO's 2002 Annual Fixed Revenue Requirement in the above referenced dockets.

DEO requests an effective date of January 1, 2002 for these revisions. Copies of the filing have been served upon each person designated on the official service list compiled by the Secretary in these proceedings.

Comment Date: November 12, 2002.

2. California Independent System Operator Corporation

[Docket No. ER02-1656-007]

Investigation of Wholesale Rates of Public Utility Sellers of Energy and Ancillary Services in the Western Systems Coordinating Council

[Docket No. EL01-68-023]

Take notice that on October 21, 2002, the California Independent System Operator Corporation (ISO) tendered for filing with the Federal Energy Regulatory Commission (Commission) a Report on Demand Response, in compliance with the Commission's July 17, 2002 Order issued in the above-referenced dockets.

Comment Date: November 12, 2002.

3. Aquila, Inc.

[Docket No. ER02-2170-001]

Take notice that on October 22, 2002, Aquila, Inc. d/b/a Aquila Networks-MPS (Aquila), filed with the Commission, pursuant to Section 205 of the Federal Power Act, 16 U.S.C. 824d, and Part 35 of the Commission regulations, Rate Schedule FERC No. 120, an amended Master Power Purchase and Sale Agreement Confirmation between Aquila and its affiliate Aquila Merchant Services, Inc.

Comment Date: November 12, 2002.

4. ISO New England Inc.

[Docket No. ER02-2463-001]

Take notice on October 23, 2002, pursuant to Section 205 of the Federal Power Act and in compliance with the Commission's order dated October 9, 2002, 101 FERC ¶ 61,003 (2002), ISO New England Inc. filed with the Federal Energy Regulatory Commission an unredacted Reliability Agreement dated August 1, 2002 between ISO-NE and Devon Power LLC.

Copies of said filing have been served upon all parties to this proceeding, and upon NEPOOL Participants, and upon all non-Participant entities that are customers under the NEPOOL Open Access Transmission Tariff, as well as upon the utility regulatory agencies of the six New England States.

Comment Date: November 13, 2002.

5. Duke Energy Corporation

[Docket No. ER02-2553-001]

Take notice that on October 23, 2002, Duke Energy Corporation, on behalf of Duke Electric Transmission, (collectively, Duke) tendered for filing an amended Notice of Cancellation of the Service Agreement for Network Integration Transmission Service between Duke and Cincinnati Gas and Electric Company, PSI Energy, Inc., and Cinergy Services, Inc., as agent for and on behalf of Cincinnati Gas and Electric Company, PSI Energy, Inc., and the Commissioners of Public Works of the City of Greenwood, South Carolina.

Duke requests an effective date for the Notice of Cancellation of October 24, 2002.

Comment Date: November 13, 2002.

6. Kentucky Utilities Company

[Docket No. ER02-2608-001]

Take notice that on October 22, 2002, Kentucky Utilities Company (KU) tendered for filing an Amendment to Interchange Agreement between the City of Paris, Kentucky (City) and Kentucky Utilities Company, dated June 25, 2002 (Amendment). The Amendment, along with the Interchange Agreement was appended to such filing as Exhibit 1 and 2, respectively.

Comment Date: November 12, 2002.

7. Calpine Northbrook Energy Marketing, LLC

[Docket No. ER03-36-001]

Take notice that on October 23, 2002, Calpine Northbrook Energy Marketing, LLC submitted for filing its triennial market power analysis in compliance with the Commission Order issued in this docket on March 4, 1999.

Comment Date: November 13, 2002.

8. Montana-Dakota Utilities Co., A Division of MDU Resources Group, Inc.

[Docket No. ER03-68-000]

Take notice that on October 21, 2002, Montana-Dakota Utilities Co. (Montana-Dakota), a Division of MDU Resources Group, Inc., tendered for filing the restated “Agreement Covering Operation and Maintenance of Upper Missouri G & T Electric Cooperative's Electric Facilities” dated February 3, 1999 and “Amendment No. 1 to Agreement Covering Operation and Maintenance of Upper Missouri G & T Electric Cooperative's Electric Facilities' dated July 23, 2002. The Agreement is being filed to implement Amendment No. 1 to the Agreement and to comply with Commission Order No. 614. Order No. 614 requires that as changes are made to a portion of a tariff or rate schedule, the Commission will require that the entire rate schedule be re-filed in a format consistent with the requirements of Order No. 614. Montana-Dakota designates the Agreement and Amendment, together, as Revised Rate Schedule FERC No. 35.

Montana-Dakota requests an effective date of July 23, 2002 for the Amendment, and requests whatever waivers may be necessary for that effective date or as otherwise necessary for the Commission's acceptance of the Revised Rate Schedule No. 35. Montana-Dakota states that service of its filing has been made upon Upper Missouri G & T Electric Cooperative and upon applicable state utility commissions as set out in the filing.

Comment Date: November 12, 2002.

9. Midwest Generation, LLC

[Docket No. ER03-69-000]

Take notice that on October 22, 2002, Midwest Generation, LLC (Midwest) tendered for filing a Fourth Revised Service Agreement No. 1 (the Collins Generating Station Power Purchase Agreement between Commonwealth Edison Company and Midwest).

Comment Date: November 12, 2002.

10. Tucson Electric Power Company

[Docket No. ER03-70-000]

Take notice that on October 22, 2002, Tucson Electric Power Company (Tucson Electric) tendered for filing a Notice of Cancellation of the Power Sales Agreement by and between Tucson Electric and Navopache Electric Cooperative, Inc., designated as Service Agreement No. 10 under Tucson Electric's Market-Based Power Sales Tariff, FERC Electric Tariff Original Volume No. 3.

Comment Date: November 12, 2002.

11. Deseret Generation & Transmission Co-operative, Inc.

[Docket No. ER03-71-000]

Take notice that on October 22, 2002, Deseret Generation & Transmission Co-operative, Inc. (Deseret) tendered for filing Amendments to First Revised Service Agreement Nos. 1 though 6 to its FERC Electric Tariff, Volume No. 1. The amendment provides for a rate rebate for the calendar year 2002 to each of Deseret's six Member Cooperatives. Deseret requests an effective date of December 9, 2002.

Copies of this filing were served upon Deseret's six Member Cooperatives.

Comment Date: November 12, 2002.

12. Westar Energy, Inc.

[Docket No. ER03-72-000]

Take notice that on October 23, 2002, Westar Energy, Inc. (Westar Energy) submitted for filing a Notice of Cancellation for Rate Schedule FERC No. 208, Contract between Westar Energy and the City of Seneca, Kansas, effective October 31, 2002.

Copies of this filing were served on the City of Seneca, Kansas and the Kansas Corporation Commission.

Comment Date: November 13, 2002.

13. PPL Electric Utilities Corporation

[Docket No. ER03-73-000]

Take notice that on October 23, 2002, PPL Electric Utilities Corporation (PPL Electric Utilities) filed a notice of termination of Rate Schedule FERC No. 95. PPL Electric Utilities requests that the termination be effective on December 22, 2002.

Notice of the termination has been served on Public Service Electric and Gas Company.

Comment Date: November 13, 2002.

14. PPL Electric Utilities Corporation

[Docket No. ER03-74-000]

Take notice that on October 23, 2002, PPL Electric Utilities Corporation (PPL Electric Utilities) filed a notice of termination of Rate Schedule FERC No. 96. PPL Electric Utilities requests that the termination be effective on December 22, 2002.

Notice of the termination has been served on Delmarva Power & Light Company.

Comment Date: November 13, 2002.

15. PPL Electric Utilities Corporation

[Docket No. ER03-75-000]

Take notice that on October 23, 2002, PPL Electric Utilities Corporation (PPL Electric Utilities) filed a notice of termination of Rate Schedule FERC No. 97. PPL Electric Utilities requests that the termination be effective on December 22, 2002.

Notice of the termination has been served on Atlantic City Electric Company.

Comment Date: November 13, 2002.

16. PPL Electric Utilities Corporation

[Docket No. ER03-76-000]

Take notice that on October 23, 2002, PPL Electric Utilities Corporation (PPL Electric Utilities) filed a notice of termination of Rate Schedule FERC No. 107. PPL Electric Utilities requests that the termination be effective on December 22, 2002.

Notice of the termination has been served on Philadelphia Electric Company.

Comment Date: November 13, 2002.

17. PPL Electric Utilities Corporation

[Docket No. ER03-77-000]

Take notice that on October 23, 2002, PPL Electric Utilities Corporation (PPL Electric Utilities) filed a notice of termination of PPL Electric Utilities' Rate Schedule FERC No. 109. PPL Electric Utilities requests that the termination be effective on December 22, 2002.

Notice of the termination has been served on Long Island Lighting Company.

Comment Date: November 13, 2002.

18. PPL Electric Utilities Corporation

[Docket No. ER03-78-000]

Take notice that on October 23, 2002, PPL Electric Utilities Corporation (PPL Electric Utilities) filed a notice of termination of Rate Schedule FERC No. 110. PPL Electric Utilities requests that the termination be effective on December 22, 2002.

Notice of the termination has been served on Public Service Electric and Gas Company.

Comment Date: November 13, 2002.

19. PPL Electric Utilities Corporation

[Docket No. ER03-79-000]

Take notice that on October 23, 2002, PPL Electric Utilities Corporation (PPL Electric Utilities) filed a notice of termination of Rate Schedule FERC No. 142. PPL Electric Utilities requests that the termination be effective on December 22, 2002.

Notice of the termination has been served on Consolidated Edison Company of New York, Inc.

Comment Date: November 13, 2002.

20. PPL Electric Utilities Corporation

[Docket No. ER03-80-000]

Take notice that on October 23, 2002, PPL Electric Utilities Corporation (PPL Electric Utilities) filed a notice of termination of Rate Schedule FERC No. 143. PPL Electric Utilities requests that the termination be effective on December 22, 2002.

Notice of the termination has been served on Electric Clearinghouse, Inc.

Comment Date: November 13, 2002.

21. Reliant Energy Solutions West, LLC

[Docket No. ER03-81-000]

Take notice that on October 23, 2002, Reliant Energy Solutions West, LLC (RESW) petitioned the Federal Energy Regulatory Commission to grant certain blanket authorizations, to waive certain of the Commission's Regulations and to issue an order accepting RESW's FERC Electric Rate Schedule No. 1.

Comment Date: November 13, 2002.

22. Mountainview Power Company

[Docket No. ER98-4301-002]

Take notice that on October 22, 2002, pursuant to the Federal Energy Regulatory Commission's Order in this docket, Mountainview Power Company (Mountainview) submitted its triennial market power update. In addition, pursuant to Section 205 of the Federal Power Act, Mountainview submitted its second revision to FERC Electric Rate Schedule, Original Volume No. 1, and a supplemental code of conduct reflecting new corporate affiliations.

Comment Date: November 12, 2002.

23. Public Service Company of New Mexico

[Docket No. OA03-1-000]

Take notice that on October 16, 2002, Public Service Company of New Mexico (PNM) submitted for filing an updated version of its written procedures for implementing Standards of Conduct. PNM is replacing the predecessor version of Standards of Conduct on file with the Commission with this updated version, and has posted the update on PNM's Open Access Same-Time Information System (OASIS). PNM's filing is available for public inspection at its offices in Albuquerque, New Mexico.

Informational copies of this filing have been sent to the New Mexico Public Regulation Commission and to the New Mexico Attorney General.

Comment Date: November 6, 2002.

Standard Paragraph

Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's web site under the “e-Filing” link. The Commission strongly encourages electronic filings.

Magalie R. Salas,
Secretary.

[FR Doc. 02-27929 Filed 11-1-02; 8:45 am]

BILLING CODE 6717-01-P